ENVIRONMENTAL PROTECTION AGENCY

[EPA-HQ-OAR-2021-0118; FRL-9977-01-OMS]

Information Collection Request Submitted to OMB for Review and Approval; Comment Request; NESHAP for Mercury Cell Chlor-Alkali Plants (Renewal)

AGENCY: Environmental Protection Agency (EPA).

ACTION: Notice.

SUMMARY: The Environmental Protection Agency has submitted an information collection request (ICR), NESHAP for Mercury Cell Chlor-Alkali Plants (EPA ICR Number 2046.12, OMB Control Number 2060-0542), to the Office of Management and Budget (OMB) for review and approval in accordance with the Paperwork Reduction Act. This is a proposed extension of the ICR, which is currently approved through June 30, 2022. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 28, 2022.

ADDRESSES: Submit your comments, referencing Docket ID Number EPA-HQ-OAR-2021-0118, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: Owners and operators of mercury cell chlor-alkali plants are required to comply with reporting and record keeping requirements for the General Provisions (40 CFR part 63, subpart A), as well as for the applicable specific standards in 40 CFR part 63, subpart IIIII. This includes submitting initial notifications, performance tests and periodic reports and results, and maintaining records of the occurrence and duration of any startup, shutdown, or malfunction in the operation of an affected facility, or any period during which the monitoring system is inoperative. These reports are used by EPA to determine compliance with these standards.

Form Numbers: None.

Respondents/affected entities: Mercury cell chlor-alkali plants.

Respondent's obligation to respond: Mandatory (40 CFR part 63, subpart IIIII).

Estimated number of respondents: 1 (total).

Frequency of response: Semiannually.

Total estimated burden: 1,880 hours (per year). Burden is defined at 5 CFR 1320.3(b).

Total estimated cost: $231,000 (per year), which includes $8,200 in annualized capital/startup and/or operation & maintenance costs.

Changes in the Estimates: There is a decrease in burden from the most-recently approved ICR as currently identified in the OMB Inventory of Approved Burdens. This is due to a decrease in the number of sources subject to the rule. Data gathered by EPA in the development of the proposed Residual Risk and Technology Review for 40 CFR part 63, subpart IIIII (86 FR 1362, January 8, 2021) indicates that there is only one source subject to this rule. The regulations have been revised in the past three years to add electronic reporting requirements, but it is assumed that there is no additional burden associated with the requirements, which consist of an upload of a currently required notification in portable document format (PDF). There is no change in capital/startup costs, as there is no change in the number of new facilities, which remains at zero. Due to the decrease in the number of facilities subject to the rule, total O&M costs have decreased from the previous ICR.

Courtney Kerwin,
Director, Regulatory Support Division.

[FR Doc. 2022-13770 Filed 6-27-22; 8:45 am]

BILLING CODE 6560-50-P